DEPARTMENT OF HOMELAND SECURITY

Transportation Security Administration

Intent To Request Renewal From OMB of One Current Public Collection of Information: Transportation Security Officer Medical Questionnaire

AGENCY: Transportation Security Administration (TSA), DHS.

ACTION: 60-day Renewal Notice.

SUMMARY: The Transportation Security Administration (TSA) invites public comment on one currently approved Information Collection Request (ICR), Office of Management and Budget (OMB) control number 1652-0032, abstracted below, that we will submit to the OMB for renewal in compliance with the Paperwork Reduction Act (PRA). The ICR describes the nature of the information collection and its expected burden. The collection involves using a questionnaire to collect medical information from candidates for the job of Transportation Security Officer (TSO) to ensure applicants are qualified to perform TSO duties pursuant to 49 U.S.C 44935. In certain cases, TSO candidates' health care providers may be asked to complete supplemental forms.

DATES: Send your comments by January 25, 2016.

ADDRESSES: Comments may be emailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Number 1652-0032; Security Officer Medical Questionnaire

TSA currently collects relevant medical information from TSO candidates who successfully complete the steps in the hiring process leading up to the medical portion. This information is used to assess whether the candidates meet the medical qualification standards the agency has established pursuant to 49 U.S.C. 44935. TSA collects this information through a medical questionnaire completed by TSO candidates and, in certain cases, supplemental forms completed by TSO candidates' health care providers. The medical questionnaire and supplemental forms are used to evaluate a candidate's physical and medical qualifications to be a TSO, including visual and aural acuity, and physical coordination and motor skills.

Candidates who disclose certain medical conditions on the medical questionnaire may be asked to have their health care provider complete one or more supplemental forms. These supplemental forms pertain to particular body systems and medical conditions, including cardiac, orthopedic, endocrine, and vital signs; the type of supplemental form(s) completed by a candidate's health care provider depend(s) on the condition(s) revealed during a candidate's initial medical evaluation and disclosed on the initial medical questionnaire. For example, a candidate who discloses a previous back injury may be asked to have his/her health care provider complete a supplemental form to enable the agency to better evaluate whether the candidate can perform the TSO job safely and efficiently without substantial risk of accident or injury to himself/herself or others.

Historical data indicates that on average 17,480 candidates for TSO positions annually complete initial medical exams at the 3,000 health care provider clinics/facilities nationwide provided by TSA, at no cost to the candidates. The initial medical exam form takes approximately 45 minutes (0.75 hours) for the candidates to complete, resulting in an estimated burden of 13,110 hours (17,480 × 0.75 hours). Also, the initial exam form takes an estimated 5 minutes (0.083 hours) for the health care providers to complete, resulting in an estimated burden of 1,451 hours (17,480 × 0.083 hours). The estimated total burden time for the completion of the initial medical exam form is 14,561 annual hours (13,110 hours + 1,451 hours). The estimated total respondents for the completion of the initial examination is 20,480.

Of these 17,480 initial medical exams, approximately 55 percent of those reaching the medical evaluation will be requested to complete one additional supplemental evaluation form. This yields an additional estimated 9,614 candidates (55% × 17,480) required to complete one further evaluation (FE) form. It is estimated that completing the FE form will take the candidates 5 minutes (0.083 hours), resulting in an estimated 798 hours (9,614 × 0.083 hours). The FE form will also need to be completed by the candidates' health care providers. It is estimated that it will take 9,614 health care providers an estimated 5 minutes (0.083 hours) to review and complete, resulting in an estimated burden of 798 hours (9,614 × 0.083 hours). Therefore, to complete the first FE form, the estimated total burden is 1,596 annual hours (798 hours + 798 hours) and the estimated total respondents are 19,228 (9,614 candidates + 9,614 health care providers).

In addition, of the 9,614 applicants required to complete a FE form, TSA estimates that 20 percent of them will need to complete a second FE form. Thus, 1,923 candidates (20% × 9,614) will complete a second FE form. It is estimated that completing a second FE form will take the candidate 5 minutes (0.083 hours), resulting in a total of 160 hours (1,923 × 0.083 hours). The second FE form will also need to be completed by the candidates' health care providers. It is estimated that it will take 1,923 health care providers 5 minutes (0.083 hours) to complete the second FE form, resulting in an estimated burden of 160 hours (1,923 × 0.083 hours). Therefore, the estimated total hour burden for completing the second FE forms is 320 annual hours (160 hours + 160 hours) and the estimated total respondents are 3,846 (1,923 TSO candidates + 1,923 health care providers).

Therefore, the total estimated annual number of respondents for this collection will be 58,032 (29,016 TSO candidates (17,480 initial exam forms + 9,614 first FE exam forms + 1,922 second FE exam forms) plus 14,536 health care providers (3,000 initial exam forms + 9,614 first FE exam forms + 1,922 second FE exam forms)). The total estimated annual hour burden for completing the initial medical exam and the FE forms will be 16,477 hours (14,561 initial exam forms + 1,596 first FE forms + 320 second FE forms).

Dated: November 18, 2015.
Joanna Johnson,
Paperwork Reduction Act Officer, Office of Information Technology.

[FR Doc. 2015-29925 Filed 11-24-15; 8:45 am]

BILLING CODE 9100-05-P